DEPARTMENT OF HOMELAND SECURITY

U.S. Customs and Border Protection

DEPARTMENT OF THE TREASURY

19 CFR Part 12

[CBP Dec. 20-02]

RIN 1515-AE51

Import Restrictions Imposed on Archaeological Material From Jordan

AGENCY: U.S. Customs and Border Protection, Department of Homeland Security; Department of the Treasury.

ACTION: Final rule.

SUMMARY: This final rule amends the U.S. Customs and Border Protection (CBP) regulations to reflect the imposition of import restrictions on certain archaeological material from the Hashemite Kingdom of Jordan (Jordan). These restrictions are being imposed pursuant to an agreement between the United States and Jordan that has been entered into under the authority of the Convention on Cultural Property Implementation Act. The final rule amends the CBP regulations by adding Jordan to the list of countries which have a bilateral agreement with the United States that imposes cultural property import restrictions. The final rule also contains the Designated List that describes the types of archaeological material to which the restrictions apply.

DATES: Effective on February 5, 2020.

FOR FURTHER INFORMATION CONTACT: For legal aspects, Lisa L. Burley, Chief, Cargo Security, Carriers and Restricted Merchandise Branch, Regulations and Rulings, Office of Trade, (202) 325-0300, ot-otrrculturalproperty@cbp.dhs.gov. For operational aspects, Genevieve S. Dozier, Management and Program Analyst, Commercial Targeting and Analysis Center, Trade Policy and Programs, Office of Trade, (202) 945-2942, CTAC@cbp.dhs.gov.

SUPPLEMENTARY INFORMATION:

Background

The Convention on Cultural Property Implementation Act, Public Law 97-446, 19 U.S.C. 2601 et seq. (“the Cultural Property Implementation Act”) implements the 1970 United Nations Educational, Scientific and Cultural Organization (UNESCO) Convention on the Means of Prohibiting and Preventing the Illicit Import, Export and Transfer of Ownership of Cultural Property (hereinafter, “the Convention” (823 U.N.T.S. 231 (1972))). Pursuant to the Cultural Property Implementation Act, the United States entered into a bilateral agreement with the Hashemite Kingdom of Jordan (Jordan) to impose import restrictions on certain Jordanian archaeological material. This rule announces that the United States is now imposing import restrictions on certain archaeological material from Jordan.

Determinations

Under 19 U.S.C. 2602(a)(1), the United States must make certain determinations before entering into an agreement to impose import restrictions under 19 U.S.C. 2602(a)(2). On August 14, 2019, the Assistant Secretary for Educational and Cultural Affairs, United States Department of State, after consultation with and recommendation by the Cultural Property Advisory Committee, made the determinations required under the statute with respect to certain archaeological material originating in Jordan that is described in the Designated List set forth below in this document.

These determinations include the following: (1) That the cultural patrimony of Jordan is in jeopardy from the pillage of archaeological material representing Jordan's cultural heritage dating from approximately 1.5 million B.C. to A.D. 1750 (19 U.S.C. 2602(a)(1)(A)); (2) that the Jordanian government has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Assistant Secretary also found that the material described in the determinations meets the statutory definition of “archaeological or ethnological material of the State Party” (19 U.S.C. 2601(2)).

The Agreement

On December 16, 2019, the United States and Jordan entered into a bilateral agreement, “Memorandum of Understanding between the Government of the United States of America and the Government of the Hashemite Kingdom of Jordan Concerning the Imposition of Import Restrictions on Categories of Archaeological Material of Jordan” (“the Agreement”), pursuant to the provisions of 19 U.S.C. 2602(a)(2). The Agreement enters into force on February 1, 2020, and enables the promulgation of import restrictions on categories of archaeological material representing Jordan's cultural heritage ranging in date from the Paleolithic period (approximately 1.5 million B.C.) to the middle of the Ottoman period in Jordan (A.D. 1750). A list of the categories of archaeological material subject to the import restrictions is set forth later in this document.

Restrictions and Amendment to the Regulations

In accordance with the Agreement, importation of material designated below is subject to the restrictions of 19 U.S.C. 2606 and § 12.104g(a) of title 19 of the Code of Federal Regulations (19 CFR 12.104g(a)) and will be restricted from entry into the United States unless the conditions set forth in 19 U.S.C. 2606 and § 12.104c of the CBP regulations (19 CFR 12.104c) are met. CBP is amending § 12.104g(a) of the CBP regulations (19 CFR 12.104g(a)) to indicate that these import restrictions have been imposed.

Import restrictions listed at 19 CFR 12.104g(a) are effective for no more than five years beginning on the date on which the Agreement enters into force with respect to the United States. This period may be extended for additional periods of not more than five years if it is determined that the factors which justified the Agreement still pertain and no cause for suspension of the Agreement exists. The import restrictions will expire on February 1, 2025, unless extended.

Designated List of Archaeological Material of Jordan

The Agreement between the United States and Jordan includes, but is not limited to, the categories of objects described in the Designated List set forth below. Importation of material on this list is restricted unless the material is accompanied by documentation certifying that the material left Jordan legally and not in violation of the export laws of Jordan.

The Designated List includes archaeological material in stone, metal, ceramic, and other categories ranging in date from the Paleolithic period (beginning around 1.5 million B.C.) to the middle of the Ottoman period in Jordan (A.D. 1750).

Archaeological Material

Approximate chronology of well-known archaeological periods and sites in Jordan:

(a) Paleolithic period (c. 1.5 million-10,000 B.C.): Azraq Basin, Masharia, Wadi Sirhan Basin, Wadi Uwaynid, Zarqa Valley

(b) Neolithic and Chalcolithic periods (c. 10,000-3,800 B.C.): Abu Hamid, Ayn Ghazal, Bab adh-Dhra, Basta, Bayda, Pella, Shkarat Msaied, Tulaylat Ghassul, Sahab, Tall Magass, Tall Shuna North, Tall Wadi Faynan, Wadi Shuayb

(c) Bronze and Iron periods (c. 3,800-539 B.C.): Amman, Bab adh-Dhra, Dhiban, Jarash, Jawa, Khirbat Iskander, Khirbat Zaraqun, Pella, Sahab, Tall Abu Kharaz, Tall Dayr Alla, Tall Hammam, Tall Hayyat, Tall Nimrin, Tall Shuna, Tall Umayri, Tall umm Hammad, Yiftahel

(d) Persian period (539-332 B.C.): Drayjat, Hisban, Khilda, Rujm Selim, Tall Dayr Alla, Tall Jalul, Tall Mazar, Tall Saidiyya, Tall Umayri, Tawilan

(e) Hellenistic period (332-30 B.C.): Gadara (Umm Qays), Gerasa (Jarash), Khirbat Dharayh, Khirbat Tannur, Machaerus, Petra, Philadelphia (Amman), Qasr Abd

(f) Roman period (c. 63 B.C.-A.D. 322): Abila (Quwayliba), Capitolias, Gadara (Umm Qays), Gerasa (Jarash), Petra, Philadelphia (Amman)

(g) Byzantine period (c. A.D. 322-600): Nebo, Pella, Tall Hisban, Umm el-Jimal, Umm Rasas

(h) Islamic period (c. A.D. 600-1516): Ajlun, Amman, Aylah (Aqaba), Azraq, Dhiban, Bayda, Gadara, Jerash, Khirbat Faris, Qasr Burqu, Pella (Fihl), Shawbak, Tall Abu Qadan, Tall Hisban, Umm Walid, Wuayrah (Petra)

(i) Ottoman period (c. A.D. 1516-1918): Aqaba, Khirbet Faris, Hubras, Shawbak, Tall Hisban, Qalat Unaya (noting that import restrictions for the Ottoman period apply to categories of archaeological material dating up to the middle of the Ottoman period in Jordan, A.D. 1750)

Categories of Archaeological Material

A. Stone

B. Ceramic

C. Metal

D. Bone, Ivory, Shell, and Other Organic Material

E. Glass, Faience, and Semi-Precious Stone

F. Painting and Plaster

G. Textiles, Basketry, and Rope

H. Wood

I. Leather

A. Stone

1. Architectural Elements—This category includes doors, door frames, window fittings, columns, capitals, bases, lintels, jambs, archways, friezes, pilasters, engaged columns, altars, mihrabs (prayer niches), screens, fountains, inlays, and blocks from walls, floors, and ceilings of buildings. Architectural elements may be plain, molded, or carved and are often decorated with motifs and inscriptions. Marble, limestone, sandstone, and gypsum are most commonly used, in addition to porphyry and granite.

2. Mosaics—Floor mosaics are made from stone cut into small bits (tesserae) and laid into a plaster matrix. Wall and ceiling mosaics are made with a similar technique but may include tesserae of both stone and glass. Subjects can include landscapes, scenes of deities, humans, or animals, and activities such as hunting and fishing or religious imagery. There may also be vegetative, floral, or geometric motifs and imitations of stone.

3. Architectural and Non-Architectural Relief Sculptures—Types include carved slabs with figural, vegetative, floral, geometric, or other decorative motifs; carved relief vases; stelae; palettes and plaques. All types can sometimes be inscribed in various languages. Sculptures are used for architectural decoration, including in religious, funerary (e.g., grave markers), votive, or commemorative monuments. Marble, limestone, and sandstone are most commonly used.

4. Monuments—Types include votive statues, funerary and votive stelae, and bases and base revetments in marble, limestone, and other kinds of stone. These may be painted, carved with relief sculpture, decorated with moldings, and/or carry dedicatory or funerary inscriptions in various languages.

5. Statuary—Statues are large-scale representations of deities, humans, animals, or hybrid figures in marble, limestone, or sandstone. Statuary figures may be painted.

6. Figurines—Figurines are small-scale representations of deities, humans, animals, or enigmatic forms such as the “violin-shaped” figures, in limestone, calcite, marble, greenstone, basalt, or sandstone.

7. Sepulchers—Types of burial containers include sarcophagi, caskets, reliquaries, and chest urns in marble, limestone, or other kinds of stone. Sepulchers may be plain or have figural, geometric, or floral motifs painted on them. They may be carved in relief and/or have decorative moldings.

8. Vessels and Containers—These include bowls, cups, jars, jugs, lamps, and flasks, and also smaller funerary urns and incense burners, in marble, basalt, limestone, calcite, alabaster, gypsum, or other stone. Sculpted vessels in the form of a human head or animal with a bowl on top (“pillar figures”) made of basalt are distinctive of the Chalcolithic period.

9. Furniture—Types include thrones, tables, and beds, from funerary or domestic contexts.

10. Tablets and Ostraca—Types include small-scale plaques and chips of stone used as surfaces for writing or drawing. These can be inscribed with pictographic, cuneiform, Aramaic, Greek, Punic, Latin, or Arabic scripts.

11. Tools and Weapons—Chipped stone types include blades (“Canaanean-type”), borers, scrapers, sickles, burins, notches, retouched flakes, cores, arrowheads, cleavers, knives, chisel, and microliths. Paleolithic period types are described as Acheulean, Mousterian, Ahmarian, Aurignacian, and Natufian complexes. Ground stone types include grinders (e.g., mortars, pestles, millstones, whetstones, querns), choppers, spherical-shaped hand axes, hammers, mace heads, and weights. The most commonly used stones are flint, chert, limestone, granite, basalt, and obsidian; other examples are hematite and calcite.

12. Jewelry—Types include seals, beads, finger rings, masks, and other personal adornment in marble, limestone, or various semi-precious stones—including rock crystal, amethyst, jasper, agate, steatite, and carnelian.

13. Seals and Stamps—These are small devices with at least one side engraved with a design for stamping or sealing. They can be in the shapes of squares, disks, cones, cylinders, or animals.

B. Ceramic

1. Architectural Elements—These are baked clay (terracotta) elements used to decorate buildings. Examples include acroteria, antefixes, painted and relief plaques, revetments, carved and molded brick, knobs, roof tiles, and tile wall ornaments and panels.

2. Figurines—These include terracotta (clay) statues and statuettes in the shapes of deities, humans, and animals, ranging in height from approximately 5 cm to 20 cm (2 in to 8 in). Figurines may be undecorated or decorated with paint, appliques, or inscribed lines. Plaque types are made in a mold and have a flat back and image of a human form, often female, on the front.

3. Models—These are small-scale and in terracotta, including furniture such as chairs and beds, chariots, boats, and buildings.

4. Vessels—Types, forms, and decoration vary among archaeological styles and over time. Forms may be painted or unpainted, handmade or wheel-made and decorated with burnish, glazes, or carvings. Ceramic vessels can depict imagery of humans, deities, animals, floral decorations, or inscriptions. Some of the most well-known types are highlighted below:

a. Neolithic—This type is handmade and often decorated with a lustrous burnish and may also be decorated with appliqué and/or incision, sometimes with added paint. Yarmoukian style vessels feature banded herringbone impression. Jericho style vessels have slips and red pigment applied in geometric motifs.

b. Chalcolithic—This type is dominated by medium-sized holemouth or short-necked storage jars and holemouth cooking pots. Distinctive forms include cornet cups, fenestrated stands, necked churns, spoons, “torpedo” jars, and vessels in the shape of humans or animals. May be painted with geometric designs.

c. Bronze and Iron—Distinctive types include Grey Burnished Ware, Metallic Ware, Band Slip and Line Group painted decoration, Crackled Ware, Tall Yehudiyeh Ware, Khirbat Kerak Ware, Mycenaean types, Chocolate-on-White Ware, fenestrated stands, collared pithos jars, and holemouth jars with four pushed-up ledge handles on the shoulder.

d. Persian—This type includes locally produced wares, indistinguishable from other Iron period ceramics, as well as imported Greek wares from the fifth and fourth century B.C. Types include sausage jars, high-necked cooking pots, amphorae, narrow bottles, and bag-shaped perfume juglets.

e. Hellenistic—This type includes local and imported fine and coarse wares and amphorae. Examples include oil lamps, black-slipped pottery, rhodian amphorae, relief-bowls, plates, jugs and juglets, fishplates, and bowls with incurved and outcurved rims, mastoi, table amphorae, lagynoi, amphoriskoi and small vessels for unguents. Imports include black-slipped pottery from Greece, jugs and juglets, bowls, storage jars or cooking pots from Cyprus, and Rhodian wine amphoras.

f. Nabataean—This type is characterized by forms with thin walls and floral motifs, often red pottery with black designs. The designs on the wares are painted on or pressed into the surface with stamps and rouletting wheels. Vessels of this type come in a variety of shapes including plates, serving bowls, drinking bowls, flasks, jugs, amphoriskoi, and cooking pots.

g. Roman—This type includes fine and coarse wares, including terra sigillata and other red gloss wares, cooking wares and mortaria, and storage and shipping amphorae.

h. Byzantine—This type includes undecorated plain wares, utilitarian tableware, storage jars, serving vessels, cook pots, amphorae, and special shapes such as pilgrim flasks. The fineware “Jarash bowls,” which are often slipped and painted, are particularly distinctive. Other styles can be matte painted or glazed—including incised “sgraffitto”—and stamped with elaborate polychrome decorations using floral, geometric, human, and animal motifs.

i. Islamic and Ottoman—This type includes mostly unglazed earthen coarse wares as well as those painted with linear or vegetal designs. Examples include dark gray metallic wares with white paint; glazed fine cream wares; red-painted wares, including fine “palace wares;” and ceramic vessels imitating steatite vessels. The most common glazes are yellow, green, and blue. Vessels appear in a variety of shapes, including jars, jugs, bowls, basins, cups, zirs, and so-called “sugar cones” made of distinctly heavy ceramic.

5. Lamps—Lamps can be glazed or unglazed in “saucer,” “slipper” or other styles; they typically have rounded bodies with a hole on the top and in the nozzle, handles or lugs, and motifs such as beading, human faces, rosettes or other floral elements like bunched grapes or leaves. Inscriptions may also be found on the body. Later period examples may have straight or round, bulbous bodies with a flared top and several branches.

6. Seals and Sealings—These are small devices with at least one side engraved with a design for stamping or sealing. They can be in the shapes of squares, disks, cones, cylinders, or animals. Sealings are lumps of clay impressed with a seal used to secure doors or containers.

7. Tablets—Tablets are covered with wedge-shaped cuneiform characters or incised pictographs/hieroglyphics. Shapes range from very small rounded disk forms, to small square and rectangular pillow-shaped forms, to larger rectangular tablets. Tablets may be impressed with cylinder or stamp seals.

8. Ostraca—Ostraca are pottery sherds used as surfaces for writing or drawing.

9. Objects of Daily Use—These include game pieces, loom weights, toys, tobacco pipes, portable hearths, and andirons.

10. Sepulchers—Types of burial containers include reliquaries and ossuaries, the latter being rectangular in shape or in the shape of stylized animals with an opening in the short end of the container. Sepulchers may be decorated with paint or appliques, or incised.

C. Metal

1. Statuary—These are large- and small-scale, including deity, human, and animal figures in bronze, iron, silver, or gold. Common types are large-scale, free-standing statuary from approximately 1 m to 2.5 m (approximately 3 ft to 8 ft) in height and life-size busts (i.e., head and shoulders of an individual).

2. Reliefs—These include plaques, appliques, stelae, and masks, often in bronze. Reliefs may include inscriptions in various languages.

3. Inscribed or Decorated Sheet—These are engraved inscriptions and thin metal sheets with engraved or impressed designs often used as attachments to furniture or figures. Primarily in bronze or lead, but also less frequently in gold and silver.

4. Vessels and Containers—Forms include bowls, cups, jars, jugs, strainers, cauldrons, and boxes, as well as vessels in the shape of an animal or part of an animal. This category also includes scroll and manuscript containers, reliquaries, and censers. In copper, bronze, silver, and/or gold. May portray deities, humans, or animals, as well as floral motifs in relief. They may include an inscription.

5. Jewelry—These include necklaces, chokers, pectorals, finger rings, beads, pendants, bells, belts, buckles, earrings, diadems, straight pins and fibulae, bracelets, anklets, girdles, wreaths and crowns, make-up accessories and tools, metal strigils (scrapers), crosses, and lamp-holders. In the Ottoman period, perforated coins were used as jewelry. In iron, bronze, silver, and gold. Metal can be inlaid with items such as colored stones and glass.

6. Seals—Seals are small devices with at least one side engraved with a design for stamping or sealing. Types include finger rings, amulets, and seals with a shank; in lead, tin, copper, bronze, silver, or gold.

7. Tools—Types include hooks, weights, axes, scrapers, hammerheads, trowels, locks, keys, nails, hinges, tweezers, mace heads, ingots, mirrors and fibulae (for pinning clothing), in copper, bronze, or iron.

8. Weapons and Armor—This includes body armor, such as helmets, cuirasses, bracers, and shin guards, shields, and horse armor; often decorated with elaborate designs that are engraved, embossed, or perforated. Both launching weapons (e.g., spears, javelins, arrowheads) and hand-to-hand combat weapons (e.g., swords, daggers, etc.), in copper, bronze, and iron; and in silver and gold for ceremonial use.

9. Lamps—Lamps can be open saucer-type or closed, rounded bodies with a hole on the top and in the nozzle, handles or lugs. They can include decorative designs such as beading, human faces, animals or animal parts, rosettes or other floral elements. This category includes handheld lamps, candelabras, braziers, sconces, chandeliers, and lamp stands.

10. Coins—Some of the best-known types include:

a. Nabataean—Coins in silver, lead, copper or bronze and struck at Petra. They typically have cornucopiae or wreaths on the reverse and portrait of the ruler or rulers on the obverse.

b. Roman Provincial—Coins in silver and bronze were struck through the third century A.D. at Roman and Roman provincial mints of Abila (Abel), Adraa (Daraa), Charachmoba (Al-Karak), Dium, Esbous (Heshbon), Gadara (Umm Qais), Gerasa (Jerash), Medaba (Madaba), Pella, Petra, Philadelphia (Amman), Rabbathmoba (Aroer) Capitolias/Dion (Beit Ras), and Raphana. This type also includes the pseudo-autonomous coinage of the second and first centuries B.C.

c. Byzantine—Coins in bronze and struck at the Arab-Byzantine mint of Aylah/Elath (Aqaba).

d. Early Islamic—Coins in bronze or silver and struck at the Umayyad mints of Adraa (Daraa), Gerasa (Jerash), Philadelphia/Rabbath-Ammon (Amman) and under the Abbasids at Philadelphia/Rabbath-Ammon (Amman). These coins are epigraphic in design, featuring one or more lines of Arabic script. Some Abbasid bronze coins from Philadelphia/Rabbath-Ammon (Amman) feature a small flower-like design in the center of one side.

e. Crusader—These coins appear as thin, light-weight, low-quality-silver billon. Examples usually feature crosses and/or crude portraits or buildings as central images.

D. Bone, Ivory, Shell, and Other Organic Material

1. Small Statuary and Figurines—These include representations of deities, humans, or animals, in bone or ivory.

2. Reliefs, Plaques, Stelae, and Inlays—These are carved and sculpted and may have figurative, floral, and/or geometric motifs.

3. Jewelry—Types include amulets, pendants, combs, pins, spoons, bracelets, buckles, beads, and pectorals. Jewelry can be made of bone, ivory, amber, coral, mother-of-pearl, tortoise shell, and cowrie shell.

4. Seals and Stamps—These are small devices with at least one side engraved with a design for stamping or sealing. They can be in the shapes of squares, disks, cones, cylinders, or animals.

5. Vessels and Luxury Objects—Ivory, bone, and shell were used either alone or as inlays in luxury objects, including furniture, chests and boxes, writing and painting equipment, musical instruments, games, cosmetic containers, combs, jewelry, amulets, and seals.

6. Tools—Tools include bone points and awls, burnishers, needles, spatulae, and fish hooks.

7. Manuscripts—Archaeological manuscripts can be written or painted on specially prepared animal skins (e.g., cattle, sheep, goat, camel skins) known as parchment or papyrus. They occur as single leaves, bound as a book or codex, or rolled into a scroll.

8. Human Remains—This includes skeletal remains from the human body, preserved in burials or other contexts. Particular to early periods are human skulls painted or covered with lime plaster and bitumen.

E. Glass, Faience, and Semi-Precious Stone

1. Architectural Elements—These include glass inlay and tesserae pieces from floor and wall mosaics, mirrors, and windowpanes.

2. Vessels and Containers—These can take various shapes, such as jars, bottles, bowls, beakers, goblets, candle holders, perfume jars (unguentaria), and flasks. Vessels and containers may have cut, incised, raised, enameled, molded, or painted decoration. Ancient examples may be engraved and/or light blue, blue-green, green, or colorless while those from later periods may include animal, floral, and/or geometric motifs.

3. Jewelry—Jewelry includes bracelets and rings (often twisted with colored glass), pendants, and beads in various shapes (e.g., circular, globular), some with relief decoration including multi-colored “eye” beads.

4. Lamps—Lamps may have a straight or round bulbous body, some in the form of a goblet, with flared top, and engraved or moulding decorations and may have several branches.

F. Painting and Plaster

1. Rock Art—Rock art can be painted and/or incised drawings on natural rock surfaces. Common motifs include humans, animals, geometric, and/or floral elements.

2. Wall Painting—With figurative (deities, humans, animals), floral, and/or geometric motifs, as well as funerary scenes. These are painted on stone, mud plaster, lime plaster (wet—buon fresco—and dry—secco fresco), sometimes to imitate marble.

3. Stucco—This is a fine plaster used for coating wall surfaces or molding into architectural decorations such as reliefs, plaques, stelae, and inlays.

4. Jewelry—Jewelry includes plaster beads from the Neolithic period.

5. Figurines—Figurines can be human statuettes made of marl lime plaster. They can be full body or busts with one or two heads, and may have detailed facial and body features like arms, hands, and breasts.

G. Textiles, Basketry, and Rope

1. Textiles—These include linen, hemp, and silk cloth used for burial wrapping, shrouds, garments, and sails. These also include linen and wool also used for garments and hangings.

2. Basketry—Plant fibers were used to make baskets and containers in a variety of shapes and sizes, as well as sandals and mats.

3. Rope—Rope and string were used for a great variety of purposes, including binding, lifting water for irrigation, fishing nets, measuring, lamp wicks, and stringing beads for jewelry and garments.

H. Wood

1. Jewelry and Personal Items—These include rings, bracelets, combs, and spindle whorls.

2. Containers—These include boxes, chests, and coffins.

I. Leather

Leather items include belts, sandals, necklaces, bracelets, and other items of personal adornment.

References

Coins of the Holy Land: The Abraham and Marian Sofaer Collection at the American Numismatic Society and the Israel Museum, volumes I and II, 2013, Y. Meshoreer, The American Numismatic Society, New York.

Jordan: An Archaeological Reader, 2008, R.B. Adams (editor), Equinox, London.

Inapplicability of Notice and Delayed Effective Date

This amendment involves a foreign affairs function of the United States and is, therefore, being made without notice or public procedure (5 U.S.C. 553(a)(1)). For the same reason, a delayed effective date is not required under 5 U.S.C. 553(d)(3).

Regulatory Flexibility Act

Because no notice of proposed rulemaking is required, the provisions of the Regulatory Flexibility Act (5 U.S.C. 601 et seq.) do not apply.

Executive Orders 12866 and 13771

CBP has determined that this document is not a regulation or rule subject to the provisions of Executive Order 12866 or Executive Order 13771 because it pertains to a foreign affairs function of the United States, as described above, and therefore is specifically exempted by section 3(d)(2) of Executive Order 12866 and section 4(a) of Executive Order 13771.

Signing Authority

This regulation is being issued in accordance with 19 CFR 0.1(a)(1) pertaining to the Secretary of the Treasury's authority (or that of his/her delegate) to approve regulations related to customs revenue functions.

List of Subjects in 19 CFR Part 12

Cultural property, Customs duties and inspection, Imports, Prohibited merchandise, Reporting and recordkeeping requirements.

Amendment to CBP Regulations

For the reasons set forth above, part 12 of title 19 of the Code of Federal Regulations (19 CFR part 12) is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, the table in paragraph (a) is amended by adding Jordan to the list in alphabetical order to read as follows:

§ 12.104g Specific items or categories designated by agreements or emergency actions.

(a) * * *

State party | Cultural property | Decision No.
* * * * * * *
Jordan | Archaeological material representing Jordan's cultural heritage from the Paleolithic period (c. 1.5 million B.C.) to the middle of the Ottoman period in Jordan (A.D. 1750) | CBP Dec. 20-02.
* * * * * * *

* * * * *

Dated: February 4, 2020.
Mark A. Morgan,
Acting Commissioner, U.S. Customs and Border Protection.
Approved:
Timothy E. Skud,
Deputy Assistant Secretary of the Treasury.

[FR Doc. 2020-02552 Filed 2-5-20; 4:15 pm]

BILLING CODE 9111-14-P